DEPARTMENT OF THE INTERIOR

National Park Service

[N6884; NPS-WASO-NAGPRA-NPS0041883; PPWOCRADN0-PCU00RP14.R50000]

Notice of Intended Disposition: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) intends to carry out the disposition of human remains removed from Federal or Tribal lands to the lineal descendants, Indian Tribe, or Native Hawaiian organization with priority for disposition in this notice.

DATES: Disposition of the human remains in this notice may occur on or after February 27, 2026. If no claim for disposition is received by January 28, 2027, the human remains in this notice will become unclaimed human remains.

ADDRESSES: Send written claims for disposition of the human remains in this notice to Jacqueline Rodgers, U.S. Army Corps of Engineers, Tulsa District, 2488 East 81st Street, Tulsa, OK 74137, email jacqueline.rodgers@usace.army.mil.

SUPPLEMENTARY INFORMATION: This notice is published as part of the National Park Service's administrative responsibilities under NAGPRA. The determinations in this notice are the sole responsibility of the USACE Tulsa, and additional information on the human remains in this notice, including the results of consultation, can be found in the related records. The National Park Service is not responsible for the identifications in this notice.

Abstract of Information Available

Based on the information available, human remains representing, at least, three total individuals have been reasonably identified. No associated funerary objects are present. On May 17, 2021 USACE Tulsa was notified that a member of the public had recovered human remains from site 34KA133, a precontact site that dates from the Archaic—Woodland archaeological periods located at Kaw Lake in Kay County, Oklahoma. The remains represent a single individual and no funerary objects were recovered. On May 25, 1998 the remains of one individual were identified eroding from the shoreline at site 34CR107, a precontact Woodland period site located at Keystone Lake in Creek County, Oklahoma. Tulsa District personnel attempted to protect the individual in place. After several storms in the area extensively eroded the shoreline and exposed the individual, and all human remains were recovered. No funerary objects were recovered. Through May 4 and 5, 2019 the remains of one individual who had been discovered by members of the public eroding from the shoreline were recovered from site 34PW3, a precontact site dating from the Woodland—Plains Village archaeological periods located at Keystone Lake in Pawnee County, Oklahoma. No funerary objects were recovered.

Determinations

The USACE Tulsa has determined that:

• The human remains described in this notice represent the physical remains of three individuals of Native American ancestry.

• The Wichita and Affiliated Tribes (Wichita, Keechi, Waco, & Tawakonie), Oklahoma have priority for disposition of the human remains described in this notice.

Claims for Disposition

Written claims for disposition of the human remains in this notice must be sent to the appropriate official identified in this notice under ADDRESSES. If no claim for disposition is received by January 28, 2027, the human remains in this notice will become unclaimed human remains. Claims for disposition may be submitted by:

1. Any lineal descendant, Indian Tribe, or Native Hawaiian organization identified in this notice.

2. Any lineal descendant, Indian Tribe, or Native Hawaiian organization not identified in this notice who shows that they have priority for disposition.

Disposition of the human remains in this notice may occur on or after February 27, 2026. If competing claims for disposition are received, the USACE Tulsa must determine the most appropriate claimant prior to disposition. Claims for joint disposition of the human remains are considered a single claim and not competing claims. The USACE Tulsa is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 15, 2026.
Melanie O'Brien,
Manager, National NAGPRA Program.

[FR Doc. 2026-01671 Filed 1-27-26; 8:45 am]

BILLING CODE 4312-52-P